DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Jeffrey Jackson,
Deputy Assistant Administrator, Federal Insurance Directorate, Resilience, Federal Emergency Management Agency, Department of Homeland Security.

State and county | Location and case No. | Chief executive officer of community | Community map repository | Date of modification | Community No.
Arizona:
Maricopa (FEMA Docket No.: B-2520) | City of Litchfield Park (24-09-0662P) | The Honorable Thomas L. Schoaf, Mayor, City of Litchfield Park, 214 West Wigwam Boulevard, Litchfield Park, AZ 85340 | City Hall, 214 West Wigwam Boulevard Litchfield Park, AZ 85340 | Jul. 11, 2025 | 040128
Maricopa (FEMA Docket No.: B-2520) | City of Phoenix (24-09-0411P) | The Honorable Kate Gallego, Mayor, City of Phoenix, 200 West Washington Street, Phoenix, AZ 85003 | City Hall, 200 West Washington Street, Phoenix, AZ 85003 | Jun. 20, 2025 | 040051
Pima (FEMA Docket No.: B-2520) | Town of Oro Valley (23-09-0234P) | The Honorable Joe Winfield, Mayor, Town of Oro Valley, 11000 North La Canada Drive, Oro Valley, AZ 85737 | Planning and Zoning Department, 11000 North La Canada Drive, Oro Valley, AZ 85737 | Jul. 11, 2025 | 040109
Arkansas: Benton (FEMA Docket No.: B-2531) | City of Centerton (24-06-1386P) | The Honorable Bill Edwards, Mayor, City of Centerton, P.O. Box 208, Centerton, AR 72719 | Planning and Development Department, 200 Municipal Drive, Centerton, AR 72719 | Aug. 25, 2025 | 050399
California:
Orange (FEMA Docket No.: B-2520) | City of Irvine (24-09-0442P) | The Honorable Larry Agran, Mayor, City of Irvine, 1 Civic Center Plaza, Irvine, CA 92606 | Development Engineering Department, 1 Civic Center Plaza, Irvine, CA 92606 | Jul. 15, 2025 | 060222
Riverside (FEMA Docket No.: B-2520) | Agua Caliente, Band of Cahuilla Indians Tribe (24-09-0978P) | The Honorable Reid D. Milanovich, Chair, Tribal Council of the Agua Caliente Band of Cahuilla Indians, 5401 Dinah Shore Drive, Palm Springs, CA 92264 | Agua Caliente Band of Cahuilla Indians, 5401 Dinah Shore Drive, Palm Springs, CA 92264 | Jul. 18, 2025 | 060763
Riverside (FEMA Docket No.: B-2520) | City of Cathedral City (24-09-0978P) | The Honorable Mark Carnevale, Mayor, City of Cathedral City, 68-700 Avenida Lalo Guerrero, Cathedral City, CA 92234 | City Hall, 68-700 Avenida Lalo Guerrero, Cathedral City, CA 92234 | Jul. 18, 2025 | 060704
Riverside (FEMA Docket No.: B-2520) | City of Norco (25-09-0007P) | The Honorable Greg Newton, Mayor, City of Norco, 2870 Clark Avenue Norco, CA 92860 | City Hall, 2870 Clark Avenue Norco, CA 92860 | Jul. 18, 2025 | 060256
Riverside (FEMA Docket No.: B-2520) | City of Palm Springs (24-09-0978P) | Scott Stiles Manager, City of Palm Springs, 3200 East Tahquitz Canyon Way, Palm Springs, CA 92262 | City Hall, 3200 East Tahquitz Canyon Way, Palm Springs, CA 92262 | Jul. 18, 2025 | 060257
San Diego (FEMA Docket No.: B-2520) | City of San Marcos (24-09-1116P) | The Honorable Rebecca Jones, Mayor, City of San Marcos, 1 Civic Center Drive, San Marcos, CA 92069 | City Hall, 1 Civic Center Drive, San Marcos, CA 92069 | Jul. 7, 2025 | 060296
San Luis Obispo (FEMA Docket No.: B-2520) | City of El Paso de Robles (25-09-0412P) | The Honorable John Hamon, Mayor, City of El Paso de Robles, 1000 Spring Street, Paso Robles, CA 93446 | City Hall, 1000 Spring Street, Paso Robles, CA 93446 | Jul. 17, 2025 | 060308
Colorado:
Boulder (FEMA Docket No.: B-2520) | Unincorporated areas of Boulder County (24-08-0327P) | The Honorable Marta Loachamin, Chair, Boulder County Board of Commissioners, 1325 Pearl Street, Boulder, CO 80302 | Boulder County Transportation Department, 2525 13th Street, Suite 203, Boulder, CO 80304 | Jun. 30, 2025 | 080023
Jefferson (FEMA Docket No.: B-2520) | City of Arvada (24-08-0434P) | The Honorable Lauren Simpson, Mayor, City of Arvada, 8101 Ralston Road, Arvada, CO 80002 | Engineering Department, 8101 Ralston Road, Arvada, CO 80002 | Jul. 18, 2025 | 085072
Jefferson (FEMA Docket No.: B-2520) | Unincorporated areas of Jefferson County (24-08-0434P) | The Honorable Lesley Dahlkemper, Chair, Jefferson County Board of Commissioners, 100 Jefferson County Parkway, Suite 5550, Golden, CO 80419 | Jefferson County Planning and Zoning Division, 100 Jefferson County Parkway, Suite 3550, Golden, CO 80419 | Jul. 18, 2025 | 080087
Delaware: Sussex (FEMA Docket No.: B-2531) | Unincorporated areas of Sussex County (25-03-0292P) | Douglas B. Hudson President, Sussex County Council, P.O. Box 589, Georgetown, DE 19947 | Sussex County Planning and Zoning Department, 2 The Circle, Georgetown, DE 19947 | Aug. 18, 2025 | 100029
Florida:
Lake (FEMA Docket No.: B-2527) | Town of Lady Lake (24-04-7428P) | William Lawrence Manager, Town of Lady Lake, 409 Fennell Boulevard, Lady Lake, FL 32159 | Town Hall, 409 Fennell Boulevard, Lady Lake, FL 32159 | Aug. 14, 2025 | 020613
Orange (FEMA Docket No.: B-2534) | City of Orlando (25-04-0459P) | The Honorable Buddy Dyer, Mayor, City of Orlando, 400 South Orange Avenue, Orlando, FL 32801 | Public Works Department, Engineering Services Division, 400 South Orange Avenue, 8th Floor Orlando, FL 32801 | Aug. 14, 2025 | 120186
Pasco (FEMA Docket No.: B-2527) | Unincorporated areas of Pasco County (24-04-5908P) | Kathryn Starkey, Chair, Pasco County Board of Commissioners, 8731 Citizens Drive, New Port Richey, FL 33525 | Pasco County Building Construction Services Department, 8661 Citizens Drive, Suite 100, New Port Richey, FL 34654 | Aug. 14, 2025 | 120230
Illinois:
Will (FEMA Docket No.: B-2527) | City of Joliet (24-05-2641P) | The Honorable Terry D'Arcy, Mayor, City of Joliet, 150 West Jefferson Street, Joliet, IL 60432 | City Hall, 150 West Jefferson Street, Joliet, IL 60432 | Aug. 15, 2025 | 170702
Will (FEMA Docket No.: B-2527) | Unincorporated areas of Will County (24-05-2641P) | The Honorable Jennifer Bertino-Tarrant, Will County Executive, 302 North Chicago Street, Joliet, IL 60432 | Will County Land Use Department, 58 East Clinton Street, Suite 100, Joliet, IL 60432 | Aug. 15, 2025 | 170695
Iowa: Polk (FEMA Docket No.: B-2531) | City of Urbandale (25-07-0080P) | The Honorable Bob Andeweg, Mayor, City of Urbandale, 3600 86th Street, Urbandale, IA 50322 | City Hall, 3600 86th Street, Urbandale, IA 50322 | Aug. 18, 2025 | 190230
Kansas:
Cloud (FEMA Docket No.: B-2531) | City of Concordia (24-07-0527P) | Amy Lange Manager, City of Concordia, P.O. Box 603, Concordia, KS 66901 | City Hall, 701 Washington Street, Concordia, KS 66901 | Aug. 22, 2025 | 200060
Cloud (FEMA Docket No.: B-2531) | Unincorporated areas of Cloud County (24-07-0527P) | Michael Cleveland, Chair, Cloud County Commission, 811 Washington Street, Concordia, KS 66901 | Cloud County Courthouse, 811 Washington Street, Concordia, KS 66901 | Aug. 22, 2025 | 200058
Nevada:
Washoe (FEMA Docket No.: B-2520) | City of Sparks (24-09-0898P) | The Honorable Ed Lawson, Mayor, City of Sparks, 431 Prater Way, Sparks, NV 89431 | City Hall, 431 Prater Way, Sparks, NV 89431 | Jul. 11, 2025 | 320021
Washoe (FEMA Docket No.: B-2520) | Unincorporated areas of Washoe County (24-09-0898P) | Eric Brown, Washoe County Manager, 1001 East 9th Street, Reno, NV 89512 | Washoe County Administration Complex, 1001 East 9th Street, Reno, NV 89512 | Jul. 11, 2025 | 320019
Washoe (FEMA Docket No.: B-2520) | Unincorporated areas of Washoe County (24-09-0938P) | Eric Brown, Washoe County Manager, 1001 East 9th Street, Reno, NV 89512 | Washoe County Administration Complex, 1001 East 9th Steet Reno, NV 89512 | Jul. 7, 2025 | 320019
New York:
Rockland (FEMA Docket No.: B-2517) | Town of Orangetown (24-02-0638P) | The Honorable Teresa M. Kenny, Supervisor, Town of Orangetown, 26 Orangeburg Road, Orangeburg, NY 10962 | Town Hall, 26 Orangeburg Road, Orangeburg, NY 10962 | Aug. 20, 2025 | 360686
Rockland (FEMA Docket No.: B-2517) | Village of Spring Valley (24-02-0638P) | The Honorable Alan Simon, Mayor, Village of Spring Valley, 200 North Main Street, Spring Valley, NY 10977 | Village Hall, 200 North Main Street, Spring Valley, NY 10977 | Aug. 20, 2025 | 365344
North Dakota: Cass (FEMA Docket No.: B-2520) | City of Horace (24-08-0240P) | The Honorable Jeff Trudeau, Mayor, City of Horace, P.O. Box 99, Horace, ND 58047 | City Hall, 215 Park Drive, East Horace, ND 58047 | Jul. 15, 2025 | 390359
Pennsylvania:
Chester (FEMA Docket No.: B-2531) | Township of Tredyffrin (24-03-1011P) | William F. Martin Manager, Township of Tredyffrin, 1100 DuPortail Road, Berwyn, PA 19312 | Planning and Zoning Department, 1100 DuPortail Road, Berwyn, PA 19312 | Aug. 21, 2025 | 420291
York (FEMA Docket No.: B-2527) | Township of Warrington (24-03-0927P) | Jason Weaver, Chair, Township of Warrington Board of Supervisors, 3345 Rosstown Road, Wellsville, PA 17365 | Township Hall, 3345 Rosstown Road, Wellsville, PA 17365 | Aug. 14, 2025 | 422232
South Carolina: Charleston (FEMA Docket No.: B-2527) | City of North Charleston (24-04-6653P) | The Honorable Reginald L. Burgess, Mayor, City of North Charleston, 2500 City Hall, Lane North, Charleston, SC 29406 | City Hall, 2500 City Hall, Lane North, Charleston, SC 29406 | Aug. 14, 2025 | 450042
Texas:
Collin (FEMA Docket No.: B-2527) | City of Lavon (24-06-2319P) | The Honorable Vicki Sanson, Mayor, City of Lavon, P.O. Box, 340 Lavon, TX 75166 | City Hall, 120 School Road Lavon, TX 75166 | Aug. 15, 2025 | 481313
Collin (FEMA Docket No.: B-2527) | City of Murphy (25-06-0241P) | The Honorable Scott Bradley, Mayor, City of Murphy, 206 North Murphy Road, Murphy, TX 75094 | City Hall, 206 North Murphy Road, Murphy, TX 75094 | Aug. 18, 2025 | 480137
Collin (FEMA Docket No.: B-2527) | City of Plano (25-06-0241P) | The Honorable John B. Muns, Mayor, City of Plano, 1520 K Avenue Plano, TX 75074 | City Hall, 1520 K Avenue, Plano, TX 75074 | Aug. 18, 2025 | 480140
Comal (FEMA Docket No.: B-2531) | City of New Braunfels (24-06-0841P) | The Honorable Neal Linnartz, Mayor, City of New Braunfels, 550 Landa Street, New Braunfels, TX 78130 | City Hall, 550 Landa Street, New Braunfels, TX 78130 | Aug. 14, 2025 | 485493
Dallas (FEMA Docket No.: B-2531) | City of Mesquite (25-06-0337P) | The Honorable Daniel Alemán, Jr., Mayor, City of Mesquite, P.O. Box 850137, Mesquite, TX 75185 | City Hall, 757 North Galloway Avenue, Mesquite, TX 75149 | Aug. 25, 2025 | 485490
Fannin (FEMA Docket No.: B-2427) | City of Bonham (24-06-0129P) | The Honorable H. L. Compton, Mayor, City of Bonham, 514 Chestnut Street, Bonham, TX 75418 | City Hall, 514 Chestnut Street, Bonham, TX 75418 | Aug. 20, 2025 | 480222
Kaufman (FEMA Docket No.: B-2427) | City of Terrell (24-06-2328P) | The Honorable Rick Carmona, Mayor, City of Terrell, 201 East Nash Street, Terrell, TX 75142 | City Hall, 201 East Nash Street, Terrell, TX 75142 | Aug. 4, 2025 | 480416
Kaufman (FEMA Docket No.: B-2427) | Unincorporated areas of Kaufman County (24-06-2328P) | The Honorable Jakie Allen Kaufman, County Judge, 1902 East U.S. Highway 175, Kaufman, TX 75142 | Kaufman County Development Services Building, 101 North Houston Street, Kaufman, TX 75142 | Aug. 4, 2025 | 480411
Medina (FEMA Docket No.: B-2531) | Unincorporated areas of Medina County (24-06-0782P) | The Honorable Keith Lutz Medina, County Judge, 1300 Avenue M, Room 250, Hondo, TX 78861 | Old Medina County Jail, 1502 Avenue K, 2nd Floor, Hondo, TX 78861 | Aug. 22, 2025 | 480472
Tarrant (FEMA Docket No.: B-2427) | City of Fort Worth (24-06-1014P) | The Honorable Mattie Parker, Mayor, City of Fort Worth, 100 Fort Worth Trail, Fort Worth, TX 76102 | Department of Transportation and Public Works, 100 Fort Worth Trail, Fort Worth, TX 76102 | Aug. 18, 2025 | 480596
Tarrant (FEMA Docket No.: B-2427) | City of Fort Worth (24-06-1845P) | The Honorable Mattie Parker, Mayor, City of Fort Worth, 100 Fort Worth Trail, Fort Worth, TX 76102 | Department of Transportation and Public Works, 100 Fort Worth Trail, Fort Worth, TX 76102 | Aug. 14, 2025 | 480596
Tarrant (FEMA Docket No.: B-2427) | City of Fort Worth (24-06-1981P) | The Honorable Mattie Parker, Mayor, City of Fort Worth, 100 Fort Worth Trail, Fort Worth, TX 76102 | Department of Transportation and Public Works, 100 Fort Worth Trail, Fort Worth, TX 76102 | Aug. 18, 2025 | 480596
Tarrant (FEMA Docket No.: B-2427) | City of Fort Worth (24-06-2148P) | The Honorable Mattie Parker, Mayor, City of Fort Worth, 100 Fort Worth Trail, Fort Worth, TX 76102 | Department of Transportation and Public Works, 100 Fort Worth Trail, Fort Worth, TX 76102 | Aug. 14, 2025 | 480596
Washington:
King (FEMA Docket No.: B-2488) | Town of Skykomish (22-10-0931P) | The Honorable Henry Sladek, Mayor, Town of Skykomish, P.O. Box 308, Skykomish, WA 98288 | City Hall, 119 4th Street, North Skykomish, WA 98288 | Mar. 31, 2025 | 530236
King (FEMA Docket No.: B-2488) | Unincorporated areas of King County (22-10-0931P) | The Honorable Dow Constantine King, County Executive, 401 5th Avenue, Suite 800, Seattle, WA 98104 | King County Executive Office, 401 5th Avenue, Suite 800, Seattle, WA 98104 | Mar. 31, 2025 | 530071
Wyoming: Teton (FEMA Docket No.: B-2488) | Unincorporated areas of Teton County (23-08-0662P) | The Honorable Luther Propst, Chair, Teton County Board of Commissioners, P.O. Box 3594, Jackson, WY 83001 | Teton County Public Works Department, 320 South King Street, Jackson, WY 83002 | Mar. 20, 2025 | 560094

[FR Doc. 2025-19207 Filed 10-1-25; 8:45 am]

BILLING CODE 9110-12-P